NATIONAL LABOR RELATIONS BOARD

Amendment of Statement of Organization and Functions; Restructuring of National Labor Relations Board's Field Organization

July 19, 2013.

AGENCY: National Labor Relations Board.

ACTION: Notice of administrative change in status of the following offices of the National Labor Relations Board.

• Puerto Rico Regional Office (Region 24) to be designated as Subregional Office (Subregion 24) of the Tampa Regional Office (Region 12)

• Milwaukee Regional Office (Region 30) to be designated as Subregional Office (Subregion 30) of the Minneapolis Regional Office (Region 18)

SUMMARY: The National Labor Relations Board is restructuring its Regional Offices in Puerto Rico and Milwaukee to designate them as Subregional Offices assigned to the supervision of the Tampa and Minneapolis Regional Offices, respectively. Concurrent with this Notice, the National Labor Relations Board is revising its Statement of Organization and Functions accordingly.

These changes are prompted by a decline in unfair labor practice and representation case filings in each of the Regional Offices subject to this restructuring and a desire to equalize caseload and case management responsibilities in all affected Offices. The revisions are nonsubstantive or merely procedural in nature.

DATES: Effective Date: The changes announced above with respect to the Puerto Rico and Tampa offices will be effective September 1, 2013. The changes announced above with respect to the Milwaukee and Minneapolis offices will be effective August 1, 2013.

FOR FURTHER INFORMATION CONTACT: Gary Shinners, Executive Secretary, 1099 14th Street NW., Room 11600, Washington, DC 20570. Telephone: (202) 273-1067.

SUPPLEMENTARY INFORMATION: The National Labor Relations Board has decided to restructure the status of the Agency's Regional Offices in Puerto Rico and Milwaukee to designate them as Subregional Offices of the Tampa and Minneapolis Regional Offices, respectively. The Puerto Rico office will be redesignated as Subregion 24; the Milwaukee office will be redesignated as Subregion 30. These changes are prompted by a decline in unfair labor practice and representation case filings in each of the Regional Offices subject to this restructuring and a desire to equalize caseload and case management responsibilities in all affected Offices.

The Puerto Rico and Milwaukee Regional Offices have been headed by a Regional Director, who had full authority for the processing of both unfair labor practice and representation cases. The newly-designated Subregional Offices will now be headed by an Officer-in-Charge, who will report to their respective Regional Directors in Tampa and Minneapolis. These changes will vest these Regional Directors with casehandling authority for the geographical area covered by their newly-designated Subregional Office. The geographical areas covered by the Subregional Offices will continue to be the same as when they were designated as Regional Offices.

The most recent list of Regional and Subregional Offices was published at 65 FR 53228-53229 on August 29, 2000, as amended at 77 FR 72886-01 on December 6, 2012.

Concurrent with this Notice, the NLRB is revising its Statement of Organization and Functions to reflect the addition of Subregions 24 and 30 supervised by their respective Regional Offices and the elimination of Regions 24 and 30 as Regional Offices. The revisions to the Board's Statement of Organization and Functions are attached hereto.

Since April 2013, the NLRB has solicited and received feedback on the proposed restructuring of these offices. The decision to restructure the Agency's operations in the manner set forth herein was informed by comments from stakeholders, members of Congress and Agency employees. Because this is a general notice that is related to the organization of the NLRB, it is not a regulation or rule subject to Executive Order 12866.

Pursuant to the changes set forth herein, the National Labor Relations Board is amending its Statement of Organization and Functions as follows:

Part 201—Description of Organization

Subpart B—Description of Field Organization

(A) Section 203 is amended to read as follows:

Sec. 203 Regional Offices. There are 26 Regional Offices through which the Board conducts its business. Certain of the Regions have Subregional Offices or Resident Offices in addition to the central Regional Office. The areas constituting the Regions and the location of the Regional, Subregional, and Resident Offices are set forth in an appendix hereto. Each Regional Office staff is headed by a Regional Director appointed by the Board on the recommendation of the General Counsel and includes a Regional Attorney, Assistant to the Regional Director, field attorneys, field examiners, and clerical staff. Each Subregional Office is headed by an officer in charge appointed in the same manner as the Regional Directors. Each Resident Office is headed by a Resident Officer.

(B) “Appendix—Regional and Subregional Offices” is amended to read as follows:

Appendix—Regional and Subregional Offices

Alphabetical list of States showing location in relation to Regions and Subregions. (Note that respective Region number follows Subregion number to facilitate locating areas serviced.)

Region and Subregion Nos.
Alabama | 10, 15
Alaska | 19
Arizona | 28
Arkansas | 16, SR-26 (15)
California | 20, 21, 31, 32
Colorado | 27
Connecticut | SR-34 (1)
Delaware | 4, 5
District of Columbia | 5
Florida | 12, 15
Georgia | 10, 12
Hawaii | SR-37 (20)
Idaho | 19, 27
Illinois | 13, 14, SR-33 (25)
Indiana | 9, 13, 25
Iowa | SR-17 (14), 18, SR-33 (25)
Kansas | SR-17 (14)
Kentucky | 9, 10, 25
Louisiana | 15
Maine | 1
Maryland | 5
Massachusetts | 1
Michigan | 7, SR-30 (18)
Minnesota | 18
Mississippi | 15, SR-26 (15)
Missouri | 14, SR-17 (14), SR-26 (15)
Montana | 19, 27
Nebraska | 27, S-17 (14)
Nevada | 28, 32
New Hampshire | 1
New Jersey | 4, 22
New Mexico | 28
New York | 2, 3, 29
North Carolina | S-11 (10)
North Dakota | 18
Ohio | 8, 9
Oklahoma | SR-17 (14)
Oregon | SR-36 (19)
Pennsylvania | 4, 5, 6
Rhode Island | 1
South Carolina | SR-11 (10)
South Dakota | 18
Tennessee | 10, SR-11 (10), SR-26 (15)
Texas | 16, 28
Utah | 27
Vermont | 1
Virginia | 5, SR-11 (10)
Washington | 19, SR-36 (19)
West Virginia | 5, 6, 9, SR-11 (10)
Wisconsin | 18, SR-30 (18)
Wyoming | 27
Puerto Rico | SR-24 (12)
U.S. Virgin Islands | SR-24 (12)

(C) “Areas Served by Regional and Subregional Offices” is amended in following manner:

(1) Delete Reference to Region 24

(2) Region 12 is amended to read as follows:

Region 12. Tampa, Florida. In Florida, services Alachua, Baker, Bradford, Brevard, Broward, Charlotte, Citrus, Clay, Collier, Columbia, Dad, De Soto, Dixie, Duval, Flagler, Gadsden, Gilchrist, Glades, Hamilton, Hardee, Hendry, Hernando, Highlands, Hillsborough, Indian River, Jefferson, Lafayette, Lake, Lee Leon, Levy, Madison, Manatee, Marion, Martin, Monroe, Nassau, Okeechobee, Orange, Osceola, Palm Beach, Pasco, Pinellas, Polk, Putnam, St. Johns, St. Lucie, Sarasota, Seminole, Sumter, Suwannee, Taylor, Union, Volusia and Wakulla Counties; and in Georgia services Appling, Atkinson, Bacon, Brantley, Brooks, Camden, Charlton, Clinch, Coffee, Decatur, Echols, Glynn, Grady, Jeff Davis, Lanier, Lowndes, Pierce, Seminole, Thomas, Ware, and Wayne Counties.

Subregion 24. Hato Rey, Puerto Rico, Services Puerto Rico and the U.S. Virgin Islands.

Persons may also obtain service at the Resident Offices located in Miami and Jacksonville, Florida.

(3) Delete reference to Region 30

(4) Region 18 is amended to read as follows:

Region 18. Minneapolis, Minnesota. Service North Dakota, South Dakota, and Minnesota; in Iowa, services Adair, Adams, Allamakee, Appanoose, Audubon, Benton, Black Hawk, Boone, Bremer, Buchanan, Buena Vista, Butler, Calhoun, Carroll, Cass, Cedar, Cerro Gordo, Cherokee, Chickasaw, Clarke, Clay, Clayton, Crawford, Dallas, Davis, Decatur, Delaware, Dickinson, Emmett, Fayette, Floyd, Franklin, Greene, Grundy, Guthrie, Hamilton, Hancock, Hardin, Harrison, Henry, Howard, Humboldt, Ida, Iowa, Jasper, Jefferson, Johnson, Jones, Keokuk, Kossuth, Linn, Lucas, Lyon, Madison, Mahaska, Marion, Marshall, Mitchell, Monona, Monroe, Montgomery, O'Brien, Osceola, Page, Palo Alto, Plymouth, Pocahontas, Polk, Poweshiek, Ringgold, Sac, Shelby, Sioux, Story, Tama, Taylor, Union, Van Buren, Wapello, Warren, Washington, Wayne, Webster, Winnebago, Winneshiek, Woodbury, Worth and Wright Counties; and in Wisconsin, services Ashland, Barron, Bayfield, Buffalo, Burnett, Chippewa, Clark, Douglas, Dunn, Eau Clair, Iron, Jackson, Pepin, Pierce, Polk, Price, Rusk, St. Croix, Sawyer, Taylor, Trempealeau, and Washburn counties.

Subregion 30. Milwaukee, Wisconsin. In Wisconsin, services Adams, Brown, Calumet, Columbia, Crawford, Dane, Dodge, Door, Florence, Fond du Lac, Forest, Grant, Green, Green Lake, Iowa, Jefferson, Juneau, Kenosha, Kewaunee, La Crosse, Lafayette, Langlade, Lincoln, Manitowoc, Marathon, Marinette, Marquette, Menominee, Milwaukee, Monroe, Oconto, Oneida, Outagamie, Ozaukee, Portage, Racine, Richland, Rock, Sauk, Shawano, Sheboygan, Vernon, Vilas, Walworth, Washington, Waukesha, Waupaca, Waushara, Winnebago, and Wood Counties; and in Michigan, services Alger, Baraga, Delta, Dickinson, Gogebic, Houghton, Iron, Keweenaw, Marquette, Menominee and Ontonagon Counties.

Persons may also obtain service at the Resident Office located in Des Moines, Iowa.

By Direction of the Board.
Dated: July 19, 2013.
William B. Cowen,
Solicitor.

[FR Doc. 2013-17818 Filed 7-23-13; 8:45 am]

BILLING CODE 7545-01-P